DEPARTMENT OF LABOR

Employment and Training Administration

[TA-W-64,923]

International Legwear Group: Hickory, NC; Notice of Termination of Investigation

Pursuant to Section 221 of the Trade Act of 1974, as amended, an investigation was initiated on January 21, 2009 in response to a petition filed by a company official on behalf of the workers of International Legwear Group, Hickory, North Carolina.

The workers are covered by active certification (TA-W-60,869) which expires on February 20, 2009.

The petitioner has requested that the petition be withdrawn. Consequently, the investigation has been terminated.

Signed at Washington, DC, this 23rd day of January 2009.
Richard Church,
Certifying Officer, Division of Trade Adjustment Assistance.

[FR Doc. E9-2729 Filed 2-9-09; 8:45 am]

BILLING CODE 4510-FN-P